DEPARTMENT OF HOMELAND SECURITY

Coast Guard

33 CFR Part 165

[CGD01-06-116]

RIN 1625-AA00

Safety Zone; Channel Closure for Bridge Construction/Rehabilitation, Bayville Bridge at Mile 0.1, Mill Creek, Town of Oyster Bay, Nassau County, NY

AGENCY: Coast Guard, DHS.

ACTION: Temporary final rule.

SUMMARY: At the request of the County of Nassau of the State of New York, the Coast Guard is establishing a safety zone that will close the channel at the Bayville Bridge at Mile 0.1, Mill Neck Creek, in the Town of Oyster Bay from 7 a.m. October 2, 2006, through 6 p.m. October 26, 2006, in order for the County to conduct necessary rehabilitation and construction operations on the bridge. The zone will temporarily close all waters within a one hundred (100) yard radius of the Bayville Bridge. This temporary safety zone is necessary for the safety of life and to protect the maritime community transiting the area from the potential safety hazards associated with the rehabilitation and construction operations on the bridge, which will include barge-mounted crane operations, replacement of the roadway grating, structural steel repair, and repair of the bridge fender system. The channel closure temporarily prohibits passage into or movement within this portion of Mill Neck Creek, unless authorized by the Captain of the Port (COTP), Long Island Sound or the COTP's designated representative.

DATES: This rule is effective from 7 a.m. EDT October 2, 2006, through 6 p.m. EDT on October 26, 2006.

ADDRESSES: Documents indicated in this preamble as being available in the docket are part of docket CGD01-06-116 and will be available for inspection or copying at Sector Long Island Sound, New Haven, CT, between 9 a.m. and 3 p.m., Monday through Friday, except Federal holidays.

FOR FURTHER INFORMATION CONTACT: Lieutenant Junior Grade D. Miller, Chief, Waterways Management Division, Coast Guard Sector Long Island Sound at (203) 468-4596.

SUPPLEMENTARY INFORMATION:

Regulatory Information

We did not publish a notice of proposed rulemaking (NPRM) for this regulation. Under 5 U.S.C. 553(b)(B), the Coast Guard finds that good cause exists for not publishing an NPRM because the logistics with respect to the rehabilitation and construction operations were not presented to the Coast Guard with sufficient time to draft and publish an NPRM. Any delay encountered in this regulation's effective date would be contrary to the public interest since the closure is needed to prevent traffic from transiting this portion of Mill Neck Creek during the period of these operations and necessary for the safety of life on navigable waters and to protect the public from the potential hazards that would result from transit.

For the same reasons, the Coast Guard finds, under 5 U.S.C. 553(d)(3), that good cause exists for making this rule effective less than 30 days after publication in the Federal Register. The closure should have a minimal negative impact on the public and navigation as this channel is a relatively lightly used waterway used only by recreational craft, and the closure will be in effect less than a month, during a period of the year that historically features very little traffic.

Background and Purpose

The Bayville Bridge located in the Town of Oyster Bay, NY is currently in need of extensive rehabilitation and repair. The Bayville Bridge Rehabilitation Project includes:

• Removal and replacement of the existing paint system;

• Replacement of steel purlins and replacement of steel grating—open roadway, concrete filled, and sidewalk;

• Repair of steel stringers, floor beams, and girders;

• Repair to the fender system and repairs to improve drainage in the counterweight pits.

This temporary safety zone is necessary for the safety of life and to protect the maritime community transiting the area from the potential safety hazards associated with the rehabilitation and construction operations on the bridge, which will include barge-mounted crane operations, replacement of the roadway grating, structural steel repair, and repair of the bridge fender system.

Discussion of Rule

This regulation will temporarily close the channel on the waters of Mill Neck Creek, in the Town of Oyster Bay, NY, within a 100-yard radius of the Bayville Bridge. This rule will permit rehabilitation and construction operations to be conducted safely.

This action is intended to prohibit vessel traffic in a portion of Mill Neck Creek in Oyster Bay, NY and to provide for the protection of life and property of the maritime public. The closure will be enforced for a relatively short period of 25 days, from 7 a.m. October 2, 2006 through 6 p.m. EDT on October 26, 2006.

The Captain of the Port anticipates minimal negative impact on vessel traffic as the closure will only be in effect for a 25-day period during a period of the year that historically features very little traffic in this waterway. Public notifications will be made prior to the effective period via the Local Notice to Mariners and Safety Marine Information Broadcasts.

Regulatory Evaluation

This rule is not a “significant regulatory action” under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. This rule may have some impact on the public, but these potential impacts will be minimized for the following reasons: This zone covers only a small portion of the waters of Mill Neck Creek, and there is no expected impact on commercial vessels. Although this channel closure is in effect for 25 days, it will be during a period of the year that historically features very little recreational vessel traffic.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: the owners or operators of recreational vessels intending to transit or anchor in those portions of Mill Neck Creek covered by the closure. For the reasons outlined in the Regulatory Evaluation section above, this rule will not have a significant impact on a substantial number of small entities.

Assistance for Small Entities

Under subsection 213(a) of the Small Business Regulatory Enforcement Fairness Act of 1996 [Pub. L. 104-121], we want to assist small entities in understanding this rule so that they can better evaluate its effects on them and participate in the rulemaking process. If this rule will affect your small business, organization, or governmental jurisdiction and you have questions concerning its provisions or options for compliance, please call Lieutenant Junior Grade D. Miller, Chief, Waterways Management Division, Sector Long Island Sound, at (203) 468-4596. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and will not concern an environmental risk to health or risk to safety that may disproportionately affect children.

Indian Tribal Governments

This rule does not have tribal implications under Executive Order 13175, Consultation and Coordination with Indian Tribal Governments, because it will not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.1D and Department of Homeland Security Management Directive 5100.1, which guide the Coast Guard in complying with the National Environmental Policy Act of 1969 (NEPA) (42 U.S.C. 4321-4370f), and have concluded that there are no factors in this case that would limit the use of the categorical exclusion under section 2.B.2 of the Instruction. Therefore, this rule is categorically excluded, under figure 2-1, paragraph (34)(g), of the Instruction, from further environmental documentation. This rule fits the category selected from paragraph (34)(g) since it establishes a safety zone.

A final “Environmental Analysis Check List” and a final “Categorical Exclusion Determination” will be available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1225 and 1231; 46 U.S.C. Chapter 701; 50 U.S.C. 191, 195; 33 CFR 1.05-1(g), 6.04-1, 6.04-6, and 160.5; Pub. L. 107-295, 116 Stat. 2064; Department of Homeland Security Delegation No. 0170.1.

2. Add temporary § 165.T01-116 to read as follows:

§ 165.T01-116 Channel closure at Mile 0.1, Mill Neck Creek at Bayville Bridge, Town of Oyster Bay, Nassau County, NY.

(a) Location. The following area is a safety zone: All waters of Mill Neck Creek, from surface to bottom, within a one hundred (100) yard radius of the Bayville Bridge.

(b) Enforcement period. This section is effective from 7 a.m. EDT October 2, 2006, through 6 p.m. EDT on October 26, 2006.

(c) Definitions. (1) As used in this section, designated representative means a Coast Guard Patrol Commander, including a Coast Guard coxswain, petty officer, or other officer operating a Coast Guard vessel and a Federal, State, and local officer designated by or assisting the Captain of the Port (COTP).

(2) [Reserved]

(d) Regulations. (1) In accordance with the general regulations in 165.23 of this part, the safety zone described in paragraph (a) of this section is closed to all vessel traffic, except as may be permitted by the COTP or the COTP's designated representative.

(2) Vessel operators desiring to enter the safety zone must contact the COTP or the COTP's designated representative to obtain permission to do so. Vessel operators given permission to use the safety zone must comply with all directions given to them by the COTP or the COTP's designated representative.

Dated: September 29, 2006.
P.J. Boynton,
Captain, U.S. Coast Guard, Captain of the Port, Long Island Sound.

[FR Doc. E6-17606 Filed 10-19-06; 8:45 am]

BILLING CODE 4910-15-P